DEPARTMENT OF ENERGY

Federal Energy Regulatory Commission

[Project No. 2212-059]

Domtar Paper Company, LLC; Notice of Intent To Prepare an Environmental Assessment

On August 27, 2024, and supplemented on February 28, 2025 and March 14, 2025, Domtar Paper Company, LLC (licensee) filed an application for a non-capacity amendment for the Rothschild Hydroelectric Project No. 2212. The project is located on the Wisconsin River in Marathon County, Wisconsin. The project does not occupy any federal lands.

The licensee requests a non-capacity amendment of its license to replace the existing timber crib spillway section with two hydraulically actuated overhead hinged crest gates mounted on a reinforced concrete crest structure with reinforced concrete piers. Additionally, a reinforced concrete labyrinth crest structure and reinforced concrete stilling basins would be constructed for both spillways. The new spillway is expected to have similar hydraulic capacity to the timber crib spillway. The licensee does not intend to draw down the reservoir during construction, which is expected to take approximately three and a half years to complete.

On April 28, 2025, the Commission issued a public notice for the proposed amendment. The public comment period closed on May 28, 2025. On May 28, 2025, the Wisconsin Department of Natural Resources filed a motion to intervene and provided a list of permits that have been issued or are in the review process for the proposed amendment.

This notice identifies Commission staff's intention to prepare an environmental assessment (EA) under the National Environmental Policy Act (42 U.S.C. 4321 et seq.) for the project.¹ Commission staff plans to issue an EA by February 23, 2026. Revisions to the schedule may be made as appropriate. The EA will be issued for a 30-day comment period. All comments filed on the EA will be reviewed by staff and considered in the Commission's final decision on the proceeding.

¹ The unique identification number for documents relating to this environmental review is EAXX-019-20-000-1750232650.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Aneela Mousam at (202) 502-8357 or aneela.mousam@ferc.gov.

Dated: June 26, 2025.
Carlos D. Clay,
Deputy Secretary.

[FR Doc. 2025-12263 Filed 6-30-25; 8:45 am]

BILLING CODE 6717-01-P